DEPARTMENT OF LABOR

Mine Safety and Health Administration

30 CFR Part 48

Training and Retraining of Miners

CFR Correction

In Title 30 of the Code of Federal Regulations, Parts 1 to 199, revised as of July 1, 2012, on page 241, in § 48.3, paragraph (a) introductory text is corrected to read as follows:

§ 48.3 Training plans; time of submission; where filed; information required; time for approval; method of disapproval; commencement of training; approval of instructors.

(a) Except as provided in paragraphs (o) and (p) of this section, each operator of an underground mine shall have an MSHA approved plan containing programs for training new miners, training experienced miners, training miners for new tasks, annual refresher training, and hazard training for miners as follows:

* * * * *

[FR Doc. 2013-09264 Filed 4-17-13; 8:45 am]

BILLING CODE 1505-01-D